OFFICE OF SPECIAL COUNSEL

OSC ADR Surveys

AGENCY: U.S. Office of Special Counsel.

ACTION: Notice of information collection.

SUMMARY: The U.S. Office of Special Counsel (OSC), seeks approval from the Office of Management and Budget (OMB) for use of two surveys used by OSC's Alternate Dispute Resolution (ADR) program to assess its efficacy and seek ways to improve the process: An initial survey sent to all mediation participants, and a follow-up survey sent to a subset of mediation participants who opt into receiving the second survey.

DATES: Written comments should be received on or before March 21, 2022.

ADDRESSES: You may submit written comments by mail to: Office of Information and Regulatory Affairs, Office of Management and Budget, Attention: Desk Officer for OSC, New Executive Office Building, Room 10235, Washington, DC 20503; or by email via: oira_submission@omb.eop.gov.

FOR FURTHER INFORMATION CONTACT: Amy Beckett, Senior Litigation Counsel, by telephone at (202) 804-7000, or by email at frliaison@osc.gov.

SUPPLEMENTARY INFORMATION: The initial ADR survey consists of a questionnaire containing thirty-four (34) questions about the respondent's experience in mediation at OSC, including whether they understood how the process would work, their confidentiality obligations, the neutrality of the mediator, whether they felt the process was adequately resourced, and other matters. The follow-up survey is sent approximately six (6) months later to participants who opt in, consisting of a new questionnaire containing a maximum of six (6) questions or a maximum of four (4), the number of questions depending on the outcome of the earlier, concluded mediation.

OSC invites comments on: (a) The accuracy of OSC's estimate of the burden of the proposed collections of information; (b) ways to enhance the quality, utility, and clarity of the information to be collected; and (c) ways to minimize the burden of the collection of information on respondents.

OSC is a permanent independent federal investigative and prosecutorial agency. OSC's basic authorities come from four federal statutes: The Civil Service Reform Act, the Whistleblower Protection Act, the Hatch Act, and the Uniformed Services Employment & Reemployment Rights Act (USERRA). OSC's primary mission is to safeguard the merit system by protecting federal employees and applicants from prohibited personnel practices, especially reprisal for whistleblowing, and to serve as a safe channel for allegations of wrongdoing. The ADR Unit offers mediation and conciliation to complainants and agencies in selected cases as an alternative process for resolving their dispute. Mediation is a facilitated negotiation between parties to the dispute. Conciliation is similar to “shuttle diplomacy” by telephone. In either case, the ADR process is voluntary, confidential, and allows the parties to retain control of the outcome of the dispute. Parties who participate in mediation and conciliation are able to find and agree to solutions that can be crafted in a way that meets their high priority needs. The ADR process can also foster better communication skills and improve working relationships between parties.

OSC conducts the two surveys of ADR participants to assess the quality of OSC's mediation process.

OSC will use the questionnaires to survey all persons who use ADR services at OSC and a subset of those persons who agree to participate in a follow-up survey. The survey questionnaires are available for review online at https://osc.gov/Resources/Pages/Reports.aspx#tabGroup07.

Type of Information Collection Request: Opinion of mediation participants about the effectiveness and quality of their OSC mediation experience.

Affected Public: OSC mediation participants, including OSC complainants and their attorneys; Federal Agency attorneys; Federal Agency settlement officials; and other representatives or support persons.

Respondent's Obligation: Voluntary.

Estimated Annual Number of Survey Form Respondents: 100 per year for the initial survey and 75 for the follow-up survey. Number may rise if case intake rises.

Frequency of Survey Form Use: After each mediation is concluded.

Estimated Average Amount of Time for a Person to Respond to Survey: Eight minutes for the initial survey and two minutes for the follow-up survey.

Estimated Annual Survey Burden: 15.8 hours.

Date: February 10, 2022.
Travis Millsaps,
Deputy Special Counsel for Public Policy.

[FR Doc. 2022-03299 Filed 2-16-22; 8:45 am]

BILLING CODE 7405-01-P